DEPARTMENT OF TRANSPORTATION

Maritime Administration

[Docket No. MARAD-2011-0154]

Stakeholders Meeting Regarding Ready Reserve Force (RRF) Ship Manager Contract Program

AGENCY: Maritime Administration, Department of Transportation.

ACTION: Notice of public meeting.

SUMMARY: The Maritime Administration (MarAd) announces that it will hold a public outreach listening session on December 7, 2011 to gather input for consideration of possible changes to the Ship Manager Contract requirements for maintaining and operating MarAd Ready Reserve Force vessels. The topics to be discussed at the listening session will include:

• Ship Owner/Operator requirement.

• 12-ship award limit.

• Definition of Ship Manager “business entity”.

• Citizenship requirements—46 CFR 315 and 46 U.S.C. 802(a) and 802(b), U.S. Citizen vs. Documented Citizen.

• The relative importance of Technical, Past Performance and Price Evaluation Factors.

• Ship Manager as Agent vs. Independent contractor issues.

• Consideration of participation in Voluntary Intermodal Sealift Agreement, Maritime Security Program, or Tanker Emergency Preparedness Agreement.

• Small business, sub-contracting vs. joint venture structure of Ship Manager.

• Re-assignment of ships during contract performance.

• Incentives for Cost Saving Methods in Program Management, Ship Costs, Green Initiatives.

• Limited Scope Ship Management Contract for State Maritime Academy Schoolships.

The meeting is open to the public. Due to space constraints, participation is limited to two (2) representatives per company/organization. Advanced registration is recommended. The DOT building at 1200 New Jersey Ave. SE. has security entrance requirements. All personnel will be escorted. The public meeting will be held at a site accessible to individuals with disabilities. To register, interested parties should send their name, title, and company affiliation to Rilla Gaither at Rilla.Gaither@dot.gov by close of business Monday, December 5, 2011.

DATES: The meeting will be held on Wednesday, December 7, 2011 at 10:30 a.m. to 12 p.m.

ADDRESSES: This meeting will be held in the Conference Center at the U.S. Department of Transportation Headquarters, 1200 New Jersey Avenue SE., Washington, DC 20590. Additional meetings, if deemed necessary, may be held on the West or Gulf Coast, and will be identical in terms of agenda and purpose.

FOR FURTHER INFORMATION CONTACT: For general background information or technical information, contact Rilla Gaither, Office of the Associate Administrator for National Security, Maritime Administration, 1200 New Jersey Avenue SE., Washington, DC 20590 or by email to RRFSMC@dot.gov.

By Order of the Maritime Administrator.
Dated: December 2, 2011.
Julie P. Agarwal,
Secretary, Maritime Administration.

[FR Doc. 2011-31460 Filed 12-7-11; 8:45 am]

BILLING CODE 4910-81-P